OFFICE OF MANAGEMENT AND BUDGET

Revision of OMB Circular No. A-130, “Managing Information as a Strategic Resource”

AGENCY: Office of Management and Budget, Executive Office of the President.

ACTION: Notice of availability.

SUMMARY: The Office of Management and Budget (OMB) has revised Circular A-130, “Managing Information as a Strategic Resource,” to reflect changes in law and advances in technology. The revisions also ensure consistency with executive orders, presidential directives, recent OMB policy, and National Institute of Standards and Technology standards and guidelines.

The Circular establishes general policy for information governance, acquisitions, records management, open data, workforce, security, and privacy. It also emphasizes the role of both privacy and security in the Federal information life cycle. Importantly, it represents a shift from viewing security and privacy requirements as compliance exercises to understanding security and privacy as crucial elements of a comprehensive, strategic, and continuous risk-based program at Federal agencies.

When implemented by agencies, these revisions to the Circular will promote innovation, enable appropriate information sharing, and foster the wide-scale and rapid adoption of new technologies while strengthening protections for security and privacy.

DATES: Effective Upon Publication As of July 28, 2016 OMB is making revised Circular A-130 available to the public.

Circular is available at https://www.whitehouse.gov/omb/circulars_default/.

Rescission: This Circular rescinds OMB Memoranda M-10-28, “Clarifying Cybersecurity Responsibilities and Activities of the Executive Office of the President and the Department of Homeland Security (DHS).”

FOR FURTHER INFORMATION CONTACT: Carol Bales, Office of Management and Budget, Office of the Federal Chief Information Officer, at A130@omb.eop.gov.

Shaun Donovan,
Director, Office of Management and Budget.

[FR Doc. 2016-17872 Filed 7-27-16; 8:45 am]

BILLING CODE P